NUCLEAR REGULATORY COMMISSION

10 CFR Part 72

[NRC-2017-0008]

RIN 3150-AJ89

List of Approved Spent Fuel Storage Casks: NAC International MAGNASTOR® Cask System; Certificate of Compliance No. 1031, Amendment No. 7

AGENCY: Nuclear Regulatory Commission.

ACTION: Direct final rule; confirmation of effective date.

SUMMARY: The U.S. Nuclear Regulatory Commission (NRC) is confirming the effective date of August 21, 2017, for the direct final rule that was published in the Federal Register on June 6, 2017. The direct final rule amended the NRC's spent fuel storage regulations by revising the “List of approved spent fuel storage casks” to include Amendment No. 7 to Certificate of Compliance (CoC) No. 1031 for the NAC International, MAGNASTOR® Cask System.

DATES: Effective Date: The effective date of August 21, 2017, for the direct final rule published June 6, 2017 (82 FR 25931), is confirmed.

ADDRESSES: Please refer to Docket ID NRC-2017-0008 when contacting the NRC about the availability of information for this action. You may obtain publicly-available information related to this action by any of the following methods:

• Federal Rulemaking Web site: Go to http://www.regulations.gov and search for Docket ID NRC-2017-0008. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Keith McDaniel, Office of Nuclear Material Safety and Safeguards, U.S. Nuclear Regulatory Commission, Washington, DC 20555-0001; telephone: 301-415-5252; email: Keith.McDaniel@nrc.gov.

SUPPLEMENTARY INFORMATION: On June 6, 2017 (82 FR 25931), the NRC published a direct final rule amending § 72.214 of title 10 of the Code of Federal Regulations by revising the “List of approved spent fuel storage casks” to include Amendment No. 7 to CoC No. 1031 for the NAC International, MAGNASTOR® Cask System. Amendment No. 7 provides a new Passive MAGNASTOR® Transfer Cask and associated Technical Specification (TS) changes in Appendices A and B (ADAMS Accession Nos. ML16295A248 and ML16295A252), and updates Section 4.3.1(i) in Appendix A of the TSs to include revised seismic requirements. Clarifying (non-technical) changes were also made to Appendices A and B.

In the direct final rule, the NRC stated that if no significant adverse comments were received, the direct final rule would become effective on August 21, 2017. As described more fully in the direct final rule, a significant adverse comment is a comment where the commenter explains why the rule would be inappropriate, including challenges to the rule's underlying premise or approach, or would be ineffective or unacceptable without a change.

One comment on the direct final rule was submitted to Regulations.gov, however, the comment did not raise information related to this CoC and therefore was not posted. Because no significant adverse comments were received, the direct final rule will become effective as scheduled.

During the comment period for the direct final rule, the NRC identified missing change bars and formatting inconsistencies. Additionally, the NRC identified errors and omissions of text in the draft CoC and TSs associated with Amendment No. 7. In Appendix A, a number was accidently changed from 7 to 0 hours, in the table “PWR [Pressurized Water Reactor] TSC [Transportable Storage Canister] Transfer Using MTC [MAGNASTOR® Transfer Cask] Reduced Helium Backfill Time.” In Appendix B, footnote 3 omitted text; the footnote should read “0.4 years for RCC [Reactor Control Components] in the PMTC [Passive MAGNASTOR® Transfer Cask] (reduced storage location heat load). For all other cask types, 0.2 years for RCC with 10-year minimum cool time.” Additionally, the description of the PMTC was inadvertently omitted from the CoC. The NRC evaluated the figures and information provided in NAC's applications and presented its findings in Safety Evaluation Reports (SERs) (see Table 1, section 4.0 of the SER for Amendment 4 (ADAMS Accession No. ML15107A472) and sections 5.7 and 5.13 of the current SER (ADAMS Accession No. ML16295A258)), but the published draft CoC and TSs were in error. The administrative errors have been corrected in the final CoC and TSs. The final CoC, TSs, and SER for Amendment No. 7 for the MAGNASTOR® storage system can be viewed in ADAMS under Accession No. ML17013A466.

Dated at Rockville, Maryland, this 7th day of August 2017.
For the Nuclear Regulatory Commission.
Helen Chang,
Acting Chief, Rules, Announcements, and Directives Branch, Division of Administrative Services, Office of Administration.

[FR Doc. 2017-16946 Filed 8-10-17; 8:45 am]

BILLING CODE 7590-01-P